DEPARTMENT OF ENERGY

National Nuclear Security Administration

Trespassing on DOE Property: Kansas City Plant Facilities

AGENCY: National Nuclear Security Administration (NNSA), U.S. Department of Energy (DOE).

ACTION: Notice of designation of Kansas City Plant Facilities as off-limit areas.

SUMMARY: DOE hereby amends and adds to previously published site descriptions of various DOE and contractor occupied facilities as off-limit areas. In accordance with 1O CFR part 860, it is a federal crime under section 229 of the Atomic Energy Act of 1954, as amended (42 U.S.C. 2278a), for unauthorized persons to enter into or upon the facilities of the Kansas City Plant of the United States Department of Energy, National Nuclear Security Administration, Kirtland Operations operating area. The facilities are described in this notice. If unauthorized entry into or upon these properties is into an area enclosed by a fence, wall, floor, roof or other such structural barrier, conviction for such unauthorized entry may result in a fine not to exceed $100,000 or imprisonment for not more than one year, or both. If unauthorized entry into or upon the properties is into an area not enclosed by a fence, wall, floor, roof, or other such structural barrier, conviction for such unauthorized entry may result in a fine of not more than $5,000.'

• By operation of law, the Criminal Fine Improvements Act of 1987, Public Law 100-185, 101 Stat. 1279 (1987), increased the fine amounts from $1000/$5000 to $5000/$100,000. See, e.g., U.S. v. Lentsch, 369 F.3d 948, 950 (6th Cir. 2004) (quoting 58 FR 47984 (Sept. 14, 1993)); see also 10 CFR 860.5.

DATES: This action is effective on November 27, 2013.

FOR FURTHER INFORMATION CONTACT: Laurel I. Hautala, Director, Security & Information Technology Systems, NNSA Kansas City Plant, 14520 Botts Road, Kansas City, MO 64147, Telephone: (816) 488-5109, Facsimile: (816) 488-3718.

Albert N. Guarino, Site Counsel, NNSA Kansas City Plant, 14520 Botts Road, Kansas City, MO 64147, Telephone: (816) 488-3344, Facsimile: (816) 488-3718.

SUPPLEMENTARY INFORMATION: The DOE, successor agency to the Atomic Energy Commission (AEC), is authorized, pursuant to § 229 of the Atomic Energy Act of 1954, as amended (42 U.S.C. 2278a), and § 104 of the Energy Reorganization Act of 1974 (42 U.S.C. 5814), as implemented by 10 CFR part 860, published in the Federal Register on September 14, 1993 (58 FR 47984-47985) and § 301 of the Department of Energy Organization Act (42 U.S.C. 7151), to prohibit unauthorized entry and the unauthorized introduction of weapons or dangerous materials into or upon any DOE facility, installation, or real property.

By notice dated October 19, 1965 (30 FR 13290), DOE prohibited unauthorized entry into or upon the Kansas City Plant. The boundary was revised on November 25, 1983 (48 FR 56822-568224) and again revised on October 26, 2012 (FR 65376-65377).

Accordingly, NNSA prohibits the unauthorized entry and the unauthorized introduction of weapons or dangerous materials, as provided in 10 CFR 860.3 and 860.4 into and upon the following additions to the existing Kansas City Plant boundary. The additions are described in further detail in the paragraphs that follow.

Property Description:

Air Park Building

2100 Air Park Road SE., Albuquerque, Bernalillo County, NM—Legal Description: Lot Numbered Four (4) of Airport Business Park, within Section 34, Tl0N, R3E, NMPM containing 1.4204 acres.

Alamo Building

2445 Alamo Avenue SE., Albuquerque, Bernalillo County, NM—Legal Description: 1. Building and parking for Alamo Building—Legal Description: Tract A-2-A-2 replat of Tract A-2-A in Block Numbered Two (2) of Airport Industrial Park containing 0.9944 Acres. 2. Parking lot on Baylor for 2445 Alamo building—Legal Description: Lot Numbered 11-B in Block Numbered One (1) of Airport Industrial Park of the Plat of Lot 11-A and 11-B, Block 1. of Airport Industrial Park containing .4931 Acres.

Craddock A

2540 Alamo Avenue SE., Albuquerque, Bernalillo County, NM—Legal Description: 87106 TR A-1-A replat of tract Z-4 & A-1 Airport Industrial Park to TRS A-4-A, A-1-A, A-1-B & A-1-C of Airport Industrial Park containing 1.8989 AC MIL, or 82,717 SF M/L, consisting of approximately 34,860 square feet including the means of access thereto and egress therefrom along ways controlled by lessor and together with the use of outside perimeter and grounds appurtenant to the building for purposes of parking employees, visitors, and guests and in addition thereto, approximately 6,500 square feet of paved, stripped parking lot area (the parking lot) adjacent to the above described property, hereinafter described collectively as the leased premises.

Craddock B

2460 Alamo Avenue SE Albuquerque, Bernalillo County, NM—Legal Description: TR Z-4-A replat of tract Z-4 & A-1 Airport Industrial Park to TRS A-4-A, A-1-A, A-1-B & A-1-C of Airport Industrial Park containing 1.5470 AC MIL OR 67,390 SF MIL consisting of approximately 5,828 square feet including the means of access thereto and egress therefrom along ways controlled by lessor and together with the use of outside perimeter and grounds appurtenant to the building for purposes of parking employees, visitors, and guests and in addition thereto, hereinafter described collectively as the leased premises to be used for administrative offices, engineering, production, maintenance and repair, and storage for such other lawful purposes as may be incidental thereto.

Craddock C

2450 Alamo Avenue SE., Albuquerque, Bernalillo County, NM—Legal Description: TR C-1 Airport Industrial Park consisting of approximately 23,732 square feet including the means of access thereto and egress therefrom along ways controlled be lessor and together with the use of outside perimeter and grounds appurtenant to the building for purposes of parking employees, visitors, and guests and in addition thereto, hereinafter described collectively as the leased premises to be used for administrative offices, engineering, production, maintenance and repair, and storage for such other lawful purposes as may be incidental thereto.

This revised boundary is in addition to the property description contained in the Federal Register notice published October 19, 1965 (30 FR 13290), revised on November 25, 1983 (48 FR 56822-56824), and again revised on October 26, 2012 (77 FR 65376-65377). Addition of the Kirtland Operations operating area property does not terminate the prior Kansas City Plant section 229 listing.

Notices stating the pertinent prohibitions of 10 CFR 860.3 and 860.4 and the penalties of 10 CFR 860.5 are being posted at all entrances of the above-referenced areas and at intervals along their perimeters, as provided in 10 CFR 860.6.

Issued in Kansas City, MO., this 5th day of November 2013.
Laurel I. Hautala,
Director, Security & Information Technology Systems, NNSA Kansas City Plant.

[FR Doc. 2013-28466 Filed 11-26-13; 8:45 am]

BILLING CODE 6450-01-P